DEPARTMENT OF HEALTH AND HUMAN SERVICES

Administration for Children and Families

Submission for OMB Review; Refugee Support Services (RSS) and RSS Set Aside Sub-Agency List (New Collection)

AGENCY: Office of Refugee Resettlement, Administration for Children and Families, HHS.

ACTION: Request for public comment.

SUMMARY: The Administration for Children and Families (ACF) seeks approval for a new information collection requesting Refugee Support Services (RSS) grantees and RSS Set Aside grantees to provide the agency name, city, state, phone number, and funding amount for each contracted sub-grantee.

DATES: Comments due within 30 days of publication. The Office of Management and Budget (OMB) is required to make a decision concerning the collection of information between 30 and 60 days after publication of this document in the Federal Register. Therefore, a comment is best assured of having its full effect if OMB receives it within 30 days of publication.

ADDRESSES: Written comments and recommendations for the proposed information collection should be sent directly to the following: Office of Management and Budget; Paperwork Reduction Project; Email: OIRA_SUBMISSION@OMB.EOP.GOV; Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: ACF Reports Clearance Officer. All requests, emailed or written, should be identified by the title of the information collection.

SUPPLEMENTARY INFORMATION:

Description: This new data collection will request RSS grantees and RSS Set Aside grantees to provide the agency name, city, state, phone number, and funding amount for each contracted sub-grantee. Without having this information regarding RSS sub-grantees, the ACF Office of Refugee Resettlement (ORR) does not know whether an agency is, or is not, receiving ORR funds. This makes it difficult to ensure communications with, provide access to targeted assistance for, and keep abreast of the activities of all ORR-funded refugee service providers.

Respondents: State governments and replacement designees.

Annual Burden Estimates
Instrument | Total number of respondents | Total number of responses per respondent | Average burden hours per response | Total burden hours | Annual burden hours
RSS and RSS Set Aside Sub-grantee List | 56 | 3 | 2 | 336 | 112

Estimated Total Annual Burden Hours: 112.

Authority: Refugee Act of 1980 [Immigration and Nationality Act, Title IV, Chapter 2 Section 412(e)] and 45 CFR 400.28.

Mary B. Jones,
ACF/OPRE Certifying Officer.

[FR Doc. 2020-11985 Filed 6-2-20; 8:45 am]

BILLING CODE 4184-45-P